DEPARTMENT OF HEALTH AND HUMAN SERVICES

Centers for Disease Control and Prevention

[60Day-17-17AVB; Docket No. CDC-2017-0066]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the “Leveraging the Emerging Field of Disaster Citizen Science to Enhance Community Resilience to Improve Disaster Response” project. This project will include individual and group interviews of citizen scientists and their partners and will field a nationally representative survey of local health departments to understand experiences and perceptions of citizen science for disaster preparedness.

DATES: Written comments must be received on or before November 20, 2017.

ADDRESSES: You may submit comments, identified by Docket No. CDC-2017-0066 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Leveraging the Emerging Field of Disaster Citizen Science to Enhance Community Resilience to Improve Disaster Response—New—Office of Public Health Preparedness and Response (OPHPR), Centers for Disease Control and Prevention (CDC).

Background and Brief Description

OPHPR's mission is to safeguard health and save lives by providing a platform for public health preparedness and emergency response. As part of its role, OPHPR funds applied research to improve the ability of CDC and its partners, including but not limited to state and local health departments, emergency management organizations, and health care entities, to effectively prepare for and respond to public health emergencies and disasters. The proposed information collection project is in accordance with OPHPR's mission.

OPHPR requests approval of a new information collection to learn about how the emerging field of disaster citizen science can enhance community resilience for a period of one year. This (mixed methods) information collection uses interviews and a cross-sectional survey. Researchers aim to: (1) Explore the potential of disaster citizen science for increasing community resilience, enhancing participation in preparedness and response activities, and improving preparedness efforts; and (2) provide evidence to inform the development of educational and instructional tools for communities and health departments to navigate the emerging field of disaster citizen science and promote collaborations. CDC will use the insights gained from this information collection to inform the development of guidance and toolkits for LHDs and community groups so that they can align their efforts and strengthen the benefits and positive impacts of citizen science activities. For interviews, the information collection will target citizen scientists and end users of citizen science data.

Citizen science is defined as research activities (e.g., data collection, analysis, and reporting) performed by members of the general public without any particular training in science. Citizen science is growing in popularity, fueled in part by growing use of smartphones and other personal devices in the population. Although citizen collection and use of data during disasters has increased exponentially in recent years and there is great policy interest in the phenomenon, there has been no robust research to date on the use of, barriers to, and impact of citizen science in disasters. Local health departments (LHDs) lack tools to respond to and coordinate with citizen science activities within communities. Furthermore, citizen science organizations lack information on how to organize their activities for ultimate impact.

This is an exploratory study and is the first of its kind to explore the growing phenomenon of disaster citizen science. Disaster citizen science is a rapidly growing field that is the focus of policy interest, but currently devoid of research. This study will generate information that can help define the phenomenon of disaster citizen science and may result in nationally representative baseline data that can support changes in citizen science awareness, barriers, and activities.

While interviews will be hypothesis generating and provide rich data on the experiences with citizen science to date across all stakeholders active in this enterprise, the nationally-representative survey data will allow us to generalize findings to the full population of LHDs in the U.S.

CDC will collaborate with a contractor to implement this project. Researchers will target citizen scientists and their partners (e.g., academics who work with citizen scientists on research projects) and LHDs in a position to use citizen science data to inform public health decision-making. For interviews, researchers will sample for maximum variation, seeking to obtain variation on U.S. region, type and sophistication of citizen science project, type of disaster encountered, and previous experience with disaster citizen science.

The researchers aim to conduct 35-55 individual and group facilitated semi-structured interviews, each lasting approximately 60 minutes, to cover topics including benefits and uses of citizen science, barriers to and facilitators of citizen science, and strengths and limitations of citizen science activities and resources. Researchers will identify potential interview participants through literature reviews and snowball sampling in a phased approach starting with citizen science and LHD organizations. Researchers will sample for maximum variation in order to capture the full range of citizen scientist and health department experiences on this topic.

For the survey, the researchers will target a nationally representative sample of 600 local health officials and will apply survey weights to ensure that findings have external validity and can be generalized to LHDs in the U.S. The survey, which will take 30 minutes to complete, will include questions on both citizen science as applied to disaster preparedness and response, and citizen science as occurring in other contexts (such as environmental health)to draw lessons for preparedness and response.

OPHPR anticipates that the knowledge resulting from this research project will contribute significantly to the evidence base for preparedness and response and lead to improved efficiency, effectiveness, and outcomes in several domains.

Participation in this study is voluntary. There are no costs to respondents other than their time. A summary of annualized burden hours is below.

Estimated Annualized Burden Hours
Type of respondents | Form name | Number of respondents | Number of responses per respondent | Average burden per response (in hours) | Total burden (in hours)
Citizen scientists and their partners; local health officials | Interview Guide (semi-structured questionnaire) | 55 | 1 | 75/60 | 69
Local health departments | Survey | 300 | 1 | 30/60 | 150
Total |  |  |  |  | 219

Leroy A. Richardson,
Chief, Information Collection Review Office, Office of Scientific Integrity, Office of the Associate Director for Science, Office of the Director, Centers for Disease Control and Prevention.

[FR Doc. 2017-19824 Filed 9-18-17; 8:45 am]

BILLING CODE 4163-18-P